DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons who have been removed from the list of Specially Designated Nationals and Blocked Persons (SDN List). Their property and interests in property are no longer blocked, and U.S. persons are no longer generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List (SDN List) and additional information concerning OFAC sanctions programs are available on OFAC's website (https://www.treasury.gov/ofac).

Notice of OFAC Actions

OFAC previously determined on June 15, 2018 that the entity listed below met one or more of the criteria under Executive Order 13818 of December 20, 2017, “Blocking the Property of Persons Involved in Serious Human Rights Abuse or Corruption,” 82 FR 60839, 3 CFR, 2017 Comp., p. 399 (E.O. 13818).

On March 17, 2020, the Director of OFAC determined that circumstances no longer warrant the inclusion of the following entity on the SDN List under this authority. This entity is no longer subject to the blocking provisions of Section 1(a) of E.O. 13818.

Entity

1. INTERLOG DRC (a.k.a. INTERLOG S.P.R.L.; f.k.a. “BSD GROUP”; f.k.a. “BSD S.P.R.L.”), 532 Av. Chemin Public, Commune Annexe, Lubumbashi, Congo, Democratic Republic of the; 4013 Route Du Golf, Lubumbashi, Congo, Democratic Republic of the; Route CDM, Industrial Zone, Lubumbashi, Congo, Democratic Republic of the; Cassumbalessa Border, Congo, Democratic Republic of the; Industrial Quarter, Lusaka, Zambia; National ID No. 6-71-N7269D (Congo, Democratic Republic of the) [GLOMAG] (Linked To: FLEURETTE PROPERTIES LIMITED).

Dated: March 17, 2020.
Andrea Gacki,
Director, Office of Foreign Assets Control.

[FR Doc. 2020-05929 Filed 3-19-20; 8:45 am]

BILLING CODE 4810-AL-P